SECURITIES AND EXCHANGE COMMISSION

[Release No. 34-44269; File No. SR-BSE-00-22]

Self-Regulatory Organizations; Order Granting Approval of Proposed Rule Change by the Boston Stock Exchange, Inc. Relating to Minimum Equity Requirements for Derivative-Based Products

May 7, 2001.

On January 3, 2001, the Boston Stock Exchange, Inc. (“Exchange”) filed with the Securities and Exchange Commission (“Commission”), pursuant to Section 19(b)(1) of the Securities Exchange Act of 1934 (“Act”) ¹ and Rule 19b-4 thereunder,² a proposed rule change relating to minimum equity requirements for derivative-based products.

The proposal amends the Rules of the Board of Governors of the Exchange to reduce from $1,000,000 to $200,000 the minimum equity requirement for firms trading Portfolio Depositary Receipts (“PDRs”), if the firm arranges to clear its trades through another forum and obtains Exchange approval to do so.

Notice of the proposed rule change was published for comment in the Federal Register on April 5, 2001.³ No comments were received on the proposed rule change.

The Commission finds that the proposed rule change is consistent with the requirements of the Act and the rules and regulations thereunder applicable to a national securities exchange.⁴ In particular, the Commission believes that the proposal is consistent with Section 6(b)(5) of the Act,⁵ which requires, among other things, that the rules of an exchange be designed to promote just and equitable principles of trade, to remove impediments to and perfect the mechanism of a free and open market, and to protect investors and the public interest. The proposed rule change would reduce capital requirements for firms trading PDRs pursuant to clearing arrangements approved by the Exchange, while ensuring maintenance of adequate capital.

¹ 15 U.S.C. 78s(b)(1).

² 17 CFR 240.19b-4.

³ See Securities Exchange Act Release No. 44101 (March 26, 2001), 66 FR 18126 (April 5, 2001).

⁴ In approving this proposal, the Commission has considered the proposed rule's impact on efficiency, competition, and capital formation. 15 U.S.C. 78(c)(f).

⁵ 15 U.S.C. 78f(b)(5).

It is therefore ordered, pursuant to Section 19(b)(2) of the Act,⁶ that the proposed rule change (File No. SR-BSE-00-12) be, and it hereby is, approved.

⁶ 15 U.S.C. 78s(b)(2).

For the Commission, by the Division of Market Regulation, pursuant to delegated authority.⁷
⁷ 17 CFR 200.30-3(a)(12).
Margaret H. McFarland,
Deputy Secretary.

[FR Doc. 01-11988 Filed 5-11-01; 8:45 am]

BILLING CODE 8010-01-M